DEPARTMENT OF JUSTICE

Notice of Lodging of Consent Decree Under the Comprehensive Environmental Response, Compensation, and Liability Act

Notice is hereby given that on December 22, 2008, a proposed consent decree in United States v. Ashland Inc., et al., Civil Action No. 6:08-cv-01401-MLB-KMH, was lodged with the United States District Court for the District of Kansas.

The Complaint is a civil action on behalf of the Environmental Protection Agency under the Comprehensive Environmental Response, Compensation, and Liability Act of 1980, as amended, 42 U.S.C. 9601, et seq. (“CERCLA”), for reimbursement of response costs incurred by the United States in response to the release or threat of release of hazardous substances into the environment from the Chemical Commodities Inc. Superfund Site in Olathe, Kansas (“Site”). The United States alleges that the Defendants are liable under Section 107 of CERCLA, 42 U.S.C. 9607(a). The Consent Decree provides for the implementation of the remedial action chosen by EPA for the Site by two Defendants, the Boeing Company and CertainTeed Corp. Seven Defendants will contribute towards the costs of performing the remedial action or provide access to the Site. The United States, on behalf of the Defense Logistics Agency, will pay 48% of the costs in excess of the payments by the seven defendants. EPA estimates that the remedial action will cost approximately $9.8 million.

For thirty (30) days after this publication, the Department of Justice will receive comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to United States v. Ashland Inc., et al, Civil Action No. 08-cv-01401-MLB-KMH, D.J. Ref. Nos. 90-11-3-1686 & 1686/1.

During the comment period, the Consent Decree may be examined on the following Department of Justice Web site: http://www.usdoj.gov/enrd/Consent_Decrees.html. A copy of the Consent Decree may also be examined at the Office of the United States Attorney, District of Kansas, Suite 1200, 301 N. Main Street, Wichita, Kansas 67202, (316) 269-6481.

A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. When requesting a copy from the Consent Decree Library, please enclose a check in the amount of $48 (25 cents per page reproduction cost) payable to the United States Treasury or, if by e-mail or fax, forward a check in that amount to the Consent Decree Library.

Robert E. Maher, Jr.,
Assistant Section Chief, Environmental Enforcement Section, Environment and Natural Resources.

[FR Doc. E8-30982 Filed 12-29-08; 8:45 am]

BILLING CODE 4410-15-P